DEPARTMENT OF HEALTH AND HUMAN SERVICES

Health Resources and Services Administration

Advisory Councils; Notice of Meeting

In accordance with section 10(a)(2) of the Federal Advisory Committee Act (Public Law 92-463), announcement is made of the following National Advisory bodies scheduled to meet jointly during the month of September 2000.

Names: Council on Graduate Medical Education (COGME) and National Advisory Council on Nurse Education and Practice (NACNEP).

Date and Time: September 13, 2000; 8:00 a.m.-6:00 p.m. September 14, 2000; 7:30 a.m.-11:30 a.m.

Place: Holiday Inn Capitol, 550 C Street, S.W., Washington, D.C. 20024.

The meeting is open to the public.

Agenda: At the joint Councils meeting, eight invited experts will address the effect of the relationships between physicians and nurses on patient safety; the impact of physician-nurse collaboration on systems established to protect patient safety; educational programs to ensure interdisciplinary collaboration to further patient safety; education to prepare students, practicing physicians, and nurses to apply new technologies to error prevention; and consumers' perspectives on physician-nurse collaboration and its effects on patient safety and communication with patients and their families. Members of the two Councils will then work together to develop recommendations on physician-nurse collaborative education and practice activities leading to enhanced safety in caring for their patients. The meeting presentations and recommendations will be published.

Anyone interested in obtaining rosters of COGME and NACNEP members or other relevant information should write or contact Elaine G. Cohen, MS, RN, Executive Secretary, National Advisory Council on Nurse Education and Practice, Parklawn Building, Room 9-35, 5600 Fishers Lane, Rockville, Maryland 20857; telephone (301) 443-1405.

Following the joint Councils meeting on September 14, COGME will meet independently for two hours to discuss COGME's fifteenth report. The meeting is open to the public. Anyone requiring further information regarding this two-hour meeting should contact Stanford M. Bastacky, D.M.D., M.H.S.A., Executive Secretary, Council on Graduate Medical Education, Division of Medicine, Bureau of Health Professions, Room 9A-27, Parklawn Building, 5600 Fishers Lane, Rockville, Maryland 20857, telephone (301) 443-6326.

Dated: August 15, 2000.
James J. Corrigan,
Associate Administrator for Management and Program Support.

[FR Doc. 00-21254 Filed 8-21-00; 8:45 am]

BILLING CODE 4160-15-P